DEPARTMENT OF EDUCATION

34 CFR Chapter III

[Docket ID ED-2023-OSERS-0057]

Proposed Priority and Requirements—Technical Assistance on State Data Collection—National Technical Assistance Center To Improve State Capacity To Collect, Report, Analyze, and Use Accurate IDEA Data To Address Significant Disproportionality; Correction

AGENCY: Office of Special Education and Rehabilitative Services, Department of Education.

ACTION: Proposed priority and requirements; correction.

SUMMARY: On March 28, 2023, the Department of Education (Department) published in the Federal Register a notification of proposed priority and requirements (NPP) for fiscal year (FY) 2023 for a National Technical Assistance Center to Improve State Capacity to Collect, Report, Analyze, and Use Accurate IDEA Data to Address Significant Disproportionality (Center) under the Technical Assistance on State Data Collection program, Assistance Listing Number 84.373E. We are correcting the Docket ID used for submitting public comments. All other information in the NPP remains the same.

DATES: This correction is applicable May 25, 2023.

Deadline for Transmittal of Public Comments: We must receive your comments on or before June 12, 2023.

FOR FURTHER INFORMATION CONTACT: Richelle Davis, U.S. Department of Education, 400 Maryland Avenue SW, Room 5076, Potomac Center Plaza, Washington, DC 20202-5076. Telephone: (202) 245-7401. Email: Richelle.Davis@ed.gov.

If you are deaf, hard of hearing, or have a speech disability and wish to access telecommunications relay services, please dial 7-1-1.

SUPPLEMENTARY INFORMATION: On March 28, 2023, we published the NPP in the Federal Register (88 FR 18280) with a Docket ID of [ED-2023-OSERS-0001]. We are correcting the NPP to reflect the correct Docket ID [ED-2023-OSERS-0057].

Other than correcting the Docket ID, all other information in the NPP remain the same.

Correction

In FR Doc. 2023-06417, appearing on page 18280 of the Federal Register of March 28, 2023 (88 FR 18280), we make the following correction:

On page 18280, in the first column, below the heading “34 CFR Chapter III”, remove “[Docket ID ED-2023-OSERS-0001]” and add, in its place, “[Docket ID ED-2023-OSERS-0057]”.

Glenna Gallo,
Assistant Secretary for Special Education and Rehabilitative Services.

[FR Doc. 2023-11101 Filed 5-24-23; 8:45 am]

BILLING CODE 4000-01-P